DEPARTMENT OF JUSTICE

Notice of Lodging of Proposed Consent Decree Under the Clean Water Act, Clean Air Act, and Resource Conservation and Recovery Act

On July 11, 2013, the Department of Justice lodged a proposed consent decree with the United States District Court for the Western District of Arkansas in the lawsuit entitled United States v. James Ballengee, et al, Civil Action No. 5:11-CV-01781.

The United States filed this lawsuit against James Ballengee, Lisbon Processing, L.L.C., and Lisbon Refinery J.V., L.L.C. under the Clean Water Act, Clean Air Act, and Resource Conservation and Recovery Act. The United States' complaint seeks injunctive relief and civil penalties for violation of the above referenced acts at defendants' petroleum storage and processing facility in Lisbon, Louisiana. The consent decree requires the defendants to perform injunctive relief and pay a $130,000 penalty.

The publication of the notice opens a period for public comment on the consent decree. Comments should be addressed to the Assistant Attorney General, Environment and Natural Resources Division, and should refer to United States v. James Ballengee, et al, D.J. Ref. No. 90-5-2-1-09242. All comments must be submitted no later than forty-five (45) days after the publication date of this notice. Comments may be submitted either by email or by mail:

To submit comments: | Send them to:
By email | pubcomment-ees.enrd@usdoj.gov.
By mail | Assistant Attorney General U.S. DOJ—ENRD P.O. Box 7611 Washington, D.C. 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $10.00 (25 cents per page reproduction cost) payable to the United States Treasury.

Maureen Katz,
Assistant Section Chief, Environmental Enforcement Section, Environment and Natural Resources Division.

[FR Doc. 2013-17094 Filed 7-16-13; 8:45 am]

BILLING CODE 4410-15-P